GENERAL SERVICES ADMINISTRATION

[OMB Control No. 3090-0291; Docket No. 2017-0001; Sequence 3]

Submission for OMB Review; FSRS Registration Requirements for Prime Grant Awardees

AGENCY: Office of the Integrated Award Environment, General Services Administration (GSA).

ACTION: Notice of request for public comments regarding an extension to an existing OMB clearance.

SUMMARY: Under the provisions of the Paperwork Reduction Act of 1995, the Regulatory Secretariat Division will be submitting to the Office of Management and Budget (OMB) a request to review and approve a renewal of the currently approved information collection requirement regarding FSRS Registration Requirements for Prime Grant Awardees. A notice was published in the Federal Register at 82 FR 19722 on April 28, 2017. No comments were received.

DATES: Submit comments on or before August 18, 2017.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching OMB control number 3090-0291. Select the link “Comment Now” that corresponds with “Information Collection 3090-0291, FSRS Registration Requirements for Prime Grant Awardees.” Follow the instructions provided on the screen. Please include your name, company name (if any), and “Information Collection 3090-0291, FSRS Registration Requirements for Prime Grant Awardees on your attached document.

• Mail: General Services Administration, Regulatory Secretariat Division (MVCB), 1800 F Street NW., Washington, DC 20405. ATTN: IC 3090-0291, FSRS Registration Requirements for Prime Grant Awardees.

Instructions: Please submit comments only and cite Information Collection 3090-0291, FSRS Registration Requirements for Prime Grant Awardees, in all correspondence related to this collection. All comments received will be posted without change to http://www.regulations.gov, including any personal and/or business confidential information provided.

FOR FURTHER INFORMATION CONTACT: John Corro, Procurement Analyst, Office of the Integrated Award Environment, GSA, at telephone number 202-215-9767; or via email at john.corro@gsa.gov.

SUPPLEMENTARY INFORMATION:

A. Purpose

The Federal Funding Accountability and Transparency Act (P.L.109-282, as amended by section 6202(a) of P.L.110-252), known as FFATA or the Transparency Act, requires information disclosure of entities receiving Federal financial assistance through Federal awards such as Federal contracts, sub-contracts, grants and sub-grants, FFATA 2(a),(2),(i),(ii). The system that collects this information is called the FFATA Sub-award Reporting System (FSRS, www.fsrs.gov). This information collection requires information necessary for prime awardee registration in FSRS to create a user log-in and enable sub-award reporting for their entity. To register in FSRS for a user log-in, an entity is required to provide their Data Universal Numbering System (DUNS) number. FSRS then pulls core data about the entity from their System for Award Management (SAM) registration to include the legal business name, physical address, mailing address and Commercial and Government Entity (CAGE) code. The entity completes the FSRS registration by providing contact information within the entity for approval.

If a prime awardee has already registered in FSRS to report contracts-related Transparency Act financial data, a new log-in will not be required. In addition, if a prime awardee had a user account in the Electronic Subcontract Reporting System (eSRS), a new log-in will not be required.

B. Annual Reporting Burden

Respondents: 5,678.

Responses per Respondent: 1.

Total annual responses: 5,678.

Hours Per Response: .5.

Total Burden Hours: 2,839.

C. Public Comments

Public comments are particularly invited on: Whether this collection of information is necessary and whether it will have practical utility; whether our estimate of the public burden of this collection of information is accurate, and based on valid assumptions and methodology; ways to enhance the quality, utility, and clarity of the information to be collected.

Obtaining Copies of Proposals: Requesters may obtain a copy of the information collection documents from the General Services Administration, Regulatory Secretariat Division (MVCB), 1800 F Street NW., Washington, DC 20405, telephone 202-501-4755. Please cite OMB Control No. 3090-0291, FSRS Registration Requirements for Prime Grant Awardees, in all correspondence.

Dated: July 12, 2017.
David A. Shive,
Chief Information Officer, General Services Administration.

[FR Doc. 2017-15154 Filed 7-18-17; 8:45 am]

BILLING CODE 6820-XY-P